NATIONAL SCIENCE FOUNDATION

Advisory Committee for Mathematical and Physical Sciences; Notice of Meeting

In accordance with the Federal Advisory Committee Act (Pub. L. 92-463, as amended), the National Science Foundation (NSF) announces the following meeting:

Name and Committee Code: Advisory Committee for Mathematical and Physical Sciences (#66)—(Virtual Meeting).

Date and Time: August 23, 2019; 1:00 p.m. to 4:00 p.m.

Place: NSF, 2415 Eisenhower Avenue, Alexandria, VA 22314 (Virtual).

Type of Meeting: Open.

Contact Person: Nadège Aoki, National Science Foundation, 2415 Eisenhower Avenue, Room C 9015B, Alexandria, Virginia 22314; Telephone: 703/292-4934.

Purpose of Meeting: To provide advice, recommendations and counsel on major goals and policies pertaining to MPS programs and activities.

Agenda

Friday, August 23, 1:00 p.m. to 4:00 p.m.

• Presentation: PFC Report presentation, Donald Geesaman

• Discussion: PFC Report

• Presentation: PHY COV Report presentation

• Discussion: PHY COV Report

• Discussion: Other current updates

Dated: July 19, 2019.
Crystal Robinson,
Committee Management Officer.

[FR Doc. 2019-15781 Filed 7-24-19; 8:45 am]

BILLING CODE 7555-01-P